DEPARTMENT OF DEFENSE

Department of the Army, Corps of Engineers

Intent To Prepare a Supplemental Environmental Impact Statement to the Interim Operational Plan for Protection of the Cape Sable Seaside Sparrow, Everglades National Park, Miami-Dade County, FL, May 2002

AGENCY: Department of the Army, U.S. Army Corps of Engineers, DOD.

ACTION: Notice of intent.

SUMMARY: In 1999, the U.S. Fish and Wildlife Service issued a Final Biological Opinion for the Modified Water Deliveries to Everglades National Park Project (MWD Project), the C-111 Project, and the Experimental Water Deliveries to Everglades National Park Project. FWS concluded that the operations, if continued, would likely jeopardize the continued existence of the endangered Cape Sable seaside sparrow and adversely modify its critical habitat. In response, the Corps implemented an Interim Structural and Operational Plan (ISOP) in March 2000, followed by the Interim Operating Plan (IOP) in July 2002. These operations were designed to protect the sparrow pending completion of construction of the MWD Project and the C-111 Project. Because of the urgency to implement IOP in time for the next sparrow breeding season, the IOP Final Environmental Impact Statement (FEIS) was completed prior to conclusion of modeling that supported the selected plan. Pursuant to a March 2006 order by the United States District Court for the Southern District of Florida, the Corps will be preparing a supplement to the IOP FEIS. The Supplemental Environmental Impact Statement (SEIS) will update the FEIS with the modeling for the selected alternative, which was completed in November 2002, as well as actual data collected since the May 2002 FEIS. In addition the SEIS will update its analysis of the default condition for the reservoirs.

ADDRESSES: U.S. Army Corps of Engineers, Planning Division, Environmental Branch, P.O. Box 4970, Jacksonville, FL 32232-0019.

FOR FURTHER INFORMATION CONTACT: Ms. Barbara Cintron at (904) 232-1692 or e-mail at Barbara.b.cintron@saj02.usace.army.mil.

SUPPLEMENTARY INFORMATION: a. The proposed action will be the previously selected Alternative 7R that consists of water management operations of existing structural components of the Central & Southern Florida Project (C&SF Project) to avoid flooding the sparrow breeding habitats during the breeding season and to rehydrate breeding habitats during the annual wet season in order to prevent and reverse habitat degradation.

b. Alternatives will be chosen from the array in the previous FEIS that involve spatial variations in conveying water through the C&SF Project to protect the sparrow.

c. A scoping letter will be used to invite comments on alternatives and issues from Federal, State, and local agencies, affected Indian tribes, and other interested private organizations and individuals.

d. The Draft SEIS will update the Corps' analysis of Alternative 7R with modeling that was completed in November 2002 for that alternative and compare it to the previous alternatives. In addition, modeling for marsh operations and variable flows at pump station S-356 based on seepage will be used to update the analysis of the default condition for the reservoirs constructed in the C-111 Basin. The previous model could not accommodate the analysis of variable flows at S-356 when the 7R modeling was concluded in 2002. The analysis will also include actual hydrologic field data collected since 2002 and information on subsequent nesting success of endangered species, including the sparrow and the snail kite.

e. The alternative plans will be reviewed under provisions of appropriate laws and regulations, including the Endangered Species Act, Fish and Wildlife Coordination Act, Clean Water Act, and Farmland Protection Policy Act.

f. A scoping meeting is not anticipated.

g. The Draft SEIS is expected to be available for public review in the 3rd quarter of CY 2006.

Brenda S. Bowen,
Army Federal Register Liaison Officer.

[FR Doc. 06-4241 Filed 5-4-06; 8:45 am]

BILLING CODE 3710-AJ-M